DEPARTMENT OF HOMELAND SECURITY

Federal Emergency Management Agency

44 CFR Part 64

[Docket ID FEMA-2008-0020; Internal Agency Docket No. FEMA-8113]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
West Virginia:
Hinton, City of, Summers County | 540187 | March 10, 1975, Emerg; August 1, 1979, Reg; February 3, 2010, Susp | Feb. 3, 2010 | Feb. 3, 2010.
Summers County, Unincorporated Areas | 540186 | March 19, 1975, Emerg; November 5, 1980, Reg; February 3, 2010, Susp | ......*do | Do.
Region IV
Mississippi:
Baldwyn, City of, Lee County | 280134 | December 2, 1974, Emerg; September 18, 1987, Reg; February 3, 2010, Susp | ......do | Do.
Guntown, Town of, Lee County | 280345 | N/A, Emerg; August 28, 2007, Reg; February 3, 2010, Susp | ......do | Do.
Lauderdale County, Unincorporated Areas | 280224 | May 28, 1975, Emerg; September 29, 1989, Reg; February 3, 2010, Susp | ......do | Do.
Lee County, Unincorporated Areas | 280227 | February 7, 1978, Emerg; March 5, 1990, Reg; February 3, 2010, Susp | ......do | Do.
Marion, Town of, Lauderdale County | 280095 | June 26, 1975, Emerg; September 29, 1989, Reg; February 3, 2010, Susp | ......do | Do.
Meridian, City of, Lauderdale County | 280096 | November 19, 1971, Emerg; December 15, 1977, Reg; February 3, 2010, Susp | ......do | Do.
Plantersville, Village of, Lee County | 280099 | April 4, 1975, Emerg; August 1, 1986, Reg; February 3, 2010, Susp | ......do | Do.
Saltillo, Town of, Lee County | 280261 | April 24, 1975, Emerg; September 18, 1987, Reg; February 3, 2010, Susp | ......do | Do.
Shannon, Town of, Lee County | 280343 | N/A, Emerg; February 26, 2009, Reg; February 3, 2010, Susp | ......do | Do.
Tupelo, City of, Lee County | 280100 | March 4, 1974, Emerg; April 3, 1978, Reg; February 3, 2010, Susp | ......do | Do.
Verona, Town of, Lee County | 280262 | May 6, 1975, Emerg; June 4, 1987, Reg; February 3, 2010, Susp | ......do | Do.
Tennessee: Sweetwater, City of, Monroe County | 470135 | May 24, 1974, Emerg; March 18, 1986, Reg; February 3, 2010, Susp | ......do | Do.
Region V
Minnesota:
Afton, City of, Washington County | 275226 | March 19, 1971, Emerg; April 21, 1972, Reg; February 3, 2010, Susp | ......do | Do.
Bayport, City of, Washington County | 275229 | April 2, 1971, Emerg; May 12, 1972, Reg; February 3, 2010, Susp | ......do | Do.
Birchwood Village, City of, Washington County | 270720 | July 9, 1979, Emerg; June 8, 1984, Reg; February 3, 2010, Susp | ......do | Do.
Cottage Grove, City of, Washington County | 270502 | May 12, 1972, Emerg; April 30, 1976, Reg; February 3, 2010, Susp | ......do | Do.
Dellwood, City of, Washington County | 270694 | January 16, 1978, Emerg; December 26, 1978, Reg; February 3, 2010, Susp | ......do | Do.
Grant, City of, Washington County | 270780 | N/A, Emerg; July 3, 2003, Reg; February 3, 2010, Susp | ......do | Do.
Hastings, City of, Washington County | 270105 | March 9, 1973, Emerg; July 16, 1980, Reg; February 3, 2010, Susp | ......do | Do.
Hugo, City of, Washington County | 270504 | June 20, 1974, Emerg; September 29, 1978, Reg; February 3, 2010, Susp | ......do | Do.
Lake Elmo, City of, Washington County | 270505 | August 18, 1972, Emerg; July 2, 1979, Reg; February 3, 2010, Susp | ......do | Do.
Lake Saint Croix Beach, City of, Washington County | 275240 | March 19, 1971, Emerg; February 19, 1972, Reg; February 3, 2010, Susp | ......do | Do.
Lakeland Shores, City of, Washington County | 275239 | April 9, 1971, Emerg; April 28, 1972, Reg; February 3, 2010, Susp | ......do | Do.
Lakeland, City of, Washington County | 275238 | April 9, 1971, Emerg; February 9, 1972, Reg; February 3, 2010, Susp | ......do | Do.
Mahtomedi, City of, Washington County | 270698 | April 30, 1979, Emerg; June 22, 1984, Reg; February 3, 2010, Susp | ......do | Do.
Marine on Saint Croix, City of, Washington County | 270509 | September 12, 1975, Emerg; September 27, 1985, Reg; February 3, 2010, Susp | ......do | Do.
Newport, City of, Washington County | 270510 | February 15, 1974, Emerg; July 2, 1980, Reg; February 3, 2010, Susp | ......do | Do.
Oakdale, City of, Washington County | 270511 | April 18, 1975, Emerg; December 26, 1978, Reg; February 3, 2010, Susp | ......do | Do.
Scandia, City of, Washington County | 270582 | N/A, Emerg; August 12, 2008, Reg; February 3, 2010, Susp | ......do | Do.
Saint Mary's Point, City of, Washington County | 275247 | March 19, 1971, Emerg; February 25, 1972, Reg; February 3, 2010, Susp | ......do | Do.
Saint Paul Park, City of, Washington County | 270514 | September 11, 1974, Emerg; June 18, 1980, Reg; February 3, 2010, Susp | ......do | Do.
Stillwater, City of, Washington County | 275249 | November 5, 1971, Emerg; March 16, 1973, Reg; February 3, 2010, Susp | ......do | Do.
Washington County, Unincorporated Areas | 270499 | April 30, 1971, Emerg; May 17, 1982, Reg; February 3, 2010, Susp | ......do | Do.
Woodbury, City of, Washington County | 270699 | May 8, 2001, Emerg; N/A, Reg; February 3, 2010, Susp | ......do | Do.
Ohio:
Eastlake, City of, Lake County | 390313 | February 4, 1972, Emerg; February 18, 1981, Reg; February 3, 2010, Susp | ......do | Do.
Fairport Harbor, Village of, Lake County | 390314 | N/A, Emerg; September 13, 2006, Reg; February 3, 2010, Susp | ......do | Do.
Grand River, Village of, Lake County | 390315 | September 25, 1975, Emerg; July 16, 1979, Reg; February 3, 2010, Susp | ......do | Do.
Kirtland Hills, Village of, Lake County | 390810 | March 17, 1977, Emerg; October 5, 1984, Reg; February 3, 2010, Susp | ......do | Do.
Kirtland, City of, Lake County | 390616 | October 27, 1976, Emerg; February 1, 1980, Reg; February 3, 2010, Susp | ......do | Do.
Lake County, Unincorporated Areas | 390771 | October 22, 1975, Emerg; January 2, 1981, Reg; February 3, 2010, Susp | ......do | Do.
Lakeline, Village of, Lake County | 390888 | May 27, 1988, Emerg; August 4, 1988, Reg; February 3, 2010, Susp | ......do | Do.
Madison, Village of, Lake County | 390316 | August 26, 1975, Emerg; December 4, 1979, Reg; February 3, 2010, Susp | ......do | Do.
Mentor, City of, Lake County | 390317 | December 29, 1972, Emerg; December 1, 1977, Reg; February 3, 2010, Susp | ......do | Do.
North Perry, Village of, Lake County | 390742 | March 19, 1976, Emerg; July 16, 1979, Reg; February 3, 2010, Susp | ......do | Do.
Painesville, City of, Lake County | 390319 | December 30, 1971, Emerg; February 2, 1977, Reg; February 3, 2010, Susp | ......do | Do.
Perry, Village of, Lake County | 390320 | June 11, 1975, Emerg; December 15, 1978, Reg; February 3, 2010, Susp | ......do | Do.
Timberlake, Village of, Lake County | 390890 | May 27, 1988, Emerg; August 4, 1988, Reg; February 3, 2010, Susp | ......do | Do.
Waite Hill, Village of, Lake County | 390649 | December 21, 1978, Emerg; August 1, 1979, Reg; February 3, 2010, Susp | ......do | Do.
Wickliffe, City of, Lake County | 390321 | August 9, 1976, Emerg; January 2, 1980, Reg; February 3, 2010, Susp | ......do | Do.
Willoughby, City of, Lake County | 390322 | June 12, 1975, Emerg; January 16, 1981, Reg; February 3, 2010, Susp | ......do | Do.
Willowick, City of, Lake County | 390324 | February 18, 1976, Emerg; December 4, 1979, Reg; February 3, 2010, Susp | ......do | Do.
Wisconsin:
Berlin, City of, Green Lake County | 550166 | September 26, 1973, Emerg; September 30, 1977, Reg; February 3, 2010, Susp | ......do | Do.
Green Lake, City of, Green Lake County | 550167 | May 16, 1975, Emerg; September 27, 1985, Reg; February 3, 2010, Susp | ......do | Do.
Ladysmith, City of, Rusk County | 550375 | February 14, 1974, Emerg; September 1, 1978, Reg; February 3, 2010, Susp | ......do | Do.
Markesan, City of, Green Lake County | 550169 | June 9, 1975, Emerg; July 2, 2003, Reg; February 3, 2010, Susp | ......do | Do.
Princeton, City of, Green Lake County | 550171 | June 26, 1975, Emerg; June 15, 1988, Reg; February 3, 2010, Susp | ......do | Do.
Green Lake County, Unincorporated Areas | 550165 | March 10, 1972, Emerg; March 1, 1978, Reg; February 3, 2010, Susp | ......do | Do.
Rusk County, Unincorporated Areas | 550602 | May 31, 1988, Emerg; May 31, 1988, Reg; February 3, 2010, Susp | ......do | Do.
Bruce, Village of, Rusk County | 550370 | November 26, 1974, Emerg; September 1, 1986, Reg; February 3, 2010, Susp | ......do | Do.
Hawkins, Village of, Rusk County | 550373 | August 30, 1974, Emerg; July 15, 1988, Reg; February 3, 2010, Susp | ......do | Do.
Ingram, Village of, Rusk County | 550374 | July 11, 1979, Emerg; January 2, 1987, Reg; February 3, 2010, Susp | ......do | Do.
Kingston, Village of, Green Lake County | 550168 | April 10, 1975, Emerg; September 1, 1986, Reg; February 3, 2010, Susp | ......do | Do.
Marquette, Village of, Green Lake County | 550170 | April 28, 2008, Emerg; N/A, Reg; February 3, 2010, Susp | ......do | Do.
Sheldon, Village of, Rusk County | 550376 | July 18, 1975, Emerg; September 27, 1985, Reg; February 3, 2010, Susp | ......do | Do.
Tony, Village of, Rusk County | 550377 | July 22, 1975, Emerg; September 16, 1988, Reg; February 3, 2010, Susp | ......do | Do.
Region VI
Texas:
Burkburnett, City of, Wichita County | 480658 | February 7, 1975, Emerg; December 15, 1982, Reg; February 3, 2010, Susp | ......do | Do.
Iowa Park, City of, Wichita County | 480660 | July 9, 1975, Emerg; December 15, 1982, Reg; February 3, 2010, Susp | ......do | Do.
Lakeside City, City of, Archer and Wichita Counties | 481496 | October 23, 1990, Emerg; April 1, 1991, Reg; February 3, 2010, Susp | ......do | Do.
Palestine, City of, Anderson County | 480004 | August 19, 1975, Emerg; February 18, 1981, Reg; February 3, 2010, Susp | ......do | Do.
Anderson County, Unincorporated Areas | 480001 | January 24, 1992, Emerg; May 1, 1992, Reg; February 3, 2010, Susp | ......do | Do.
Region VII
Kansas:
Burlingame, City of, Osage County | 200249 | April 14, 2003, Emerg; N/A, Reg; February 3, 2010, Susp | ......do | Do.
Carbondale, City of, Osage County | 200250 | August 7, 1975, Emerg; March 4, 1988, Reg; February 3, 2010, Susp | ......do | Do.
Lyndon, City of, Osage County | 200251 | July 15, 1975, Emerg; June 3, 1986, Reg; February 3, 2010, Susp | ......do | Do.
Osage County, Unincorporated Areas | 200601 | February 11, 2005, Emerg; N/A, Reg; February 3, 2010, Susp | ......do | Do.
Overbrook, City of, Osage County | 200546 | N/A, Emerg; January 10, 2008, Reg; February 3, 2010, Susp | ......do | Do.
Quenemo, City of, Osage County | 200253 | July 6, 1976, Emerg; September 1, 1990, Reg; February 3, 2010, Susp | ......do | Do.
Region X
Alaska:
Togiak, City of, Dillingham Census Area | 020090 | January 17, 1997, Emerg; May 21, 2009, Reg; February 3, 2010, Susp | ......do | Do.
Lake and Peninsula Borough, Lake and Peninsula Borough | 025063 | March 4, 2004, Emerg; N/A, Reg; February 3, 2010, Susp | ......do | Do.
* do = Ditto.
Code for reading third column: Emerg.—Emergency; Reg.—Regular; Susp.—Suspension.

Dated: January 15, 2010.
Sandra K. Knight,
Deputy Assistant Administrator for Mitigation Department of Homeland Security Federal Emergency Management Agency.

[FR Doc. 2010-1414 Filed 1-25-10; 8:45 am]

BILLING CODE 9110-12-P